DEPARTMENT OF AGRICULTURE

Food Safety and Inspection Service

[Docket No. 02-045N]

Improving the Recall Process

AGENCY: Food Safety and Inspection Service, USDA.

ACTION: Notice of public meeting; request for comments.

SUMMARY: The Food Safety and Inspection Service (FSIS) is announcing that it will hold a one day technical conference on December 12, 2002, on Improving the Recall Process. There will be a series of discussions of issues related to this topic.

DATES: The public meeting is scheduled for Thursday, December 12, 2002. The meeting will be held from 8 a.m. to approximately 5 p.m.

ADDRESSES: The public meeting will be held at the Washington Plaza Hotel, #10 Thomas Circle, NW., Washington, DC 20005. The telephone number is 202-842-1300.

A tentative agenda is available in the FSIS Docket Room and on the FSIS Web site at http://frwebgate.access.gpo.gov/cgi-bin/leaving.cgi?from=leavingFR.html&log=linklog&to=http://www.fsis.usda.gov. FSIS welcomes comments on the topics to be discussed at the public meeting. Please send an original and two copies of comments to the FSIS Docket Room, Docket 02-045N, U.S. Department of Agriculture, Food Safety and Inspection Service, Room 102 Cotton Annex, 300 12th Street, SW., Washington, DC 20250-3700. All comments and the official transcript of the meeting, when they become available, will be kept in the FSIS Docket Room at the address provided above.

FOR FURTHER INFORMATION CONTACT: Moshe Dreyfuss at (202) 205-0260. Registration for the meeting will be on-site. No prior registration will be accepted. Persons requiring a sign Language interpreter or other special accommodations should notify Ms. Mary Harris as soon as possible at (202) 690-6498.

SUPPLEMENTARY INFORMATION:

Background

FSIS administers the Federal Meat Inspection Act, the Poultry Products Inspection Act, and the Egg Products Inspection Act. The Agency's activities are intended to prevent the distribution in domestic and foreign commerce, as human food, of unwholesome, adulterated, or misbranded meat, poultry, and egg products, including products that may transmit diseases or that may be otherwise injurious to health.

In January 2000, the Agency issued its latest revision of the recall procedures, FSIS Directive 8080.1, rev. 3. This revised directive was an improved recall procedure designed to inform meat and poultry producers of the need for swift action to prevent contaminated or adulterated meat or poultry from reaching the public. It includes methods for recovering those products and procedures for public notification.

While this process has functioned well, in recent months there have been questions raised on the efficiency and effectiveness of the recall process in light of several large recalls. Therefore, to address these concerns and to solicit possible means of improving the recall system, FSIS is holding this public meeting.

Public Meeting

At the meeting, the Agency will describe and invite discussion and comments on FSIS's recall authority, how FSIS approaches recalls, and how FSIS works with states on recalls. Also, presentations are expected to be made on approaches to recalls by industry and by other agencies.

The Agency will host three panel discussions to solicit ideas and proposals for making the recall process more effective. The discussions will cover the implications of mandatory recall authority, when public notification is needed, whether the Agency should approach establishment-initiated recalls differently from Agency-initiated recalls, and whether product should be withheld from commerce until sample results are received. The Agency intends to seek information from academia, industry sources, and consumers on ways to improve the recall process with a particular emphasis on improving public health and to provide a forum for discussion on how best to handle them. The Agency will open the discussion to include, and solicit comment from, the attendees.

Additional Public Notification

Public awareness of all segments of rulemaking and policy development is important. Consequently, in an effort to better ensure that minorities, women, and persons with disabilities are aware of this notice, FSIS will announce it and make copies of this Federal Register publication available through the FSIS Constituent Update. FSIS provides a weekly Constituent Update, which is communicated via Listserv, a free e-mail Subscription service. In addition, the update is used to provide information regarding FSIS policies, procedures, regulations, Federal Register notices, FSIS public meetings, recalls, and any other types of information that could affect or would be of interest to our constituents/stakeholders. The constituent Listserv consists of industry, trade, and farm groups, consumer interest groups, allied health professionals, scientific professionals, and other individuals that have requested to be included. Through the Listserv and Web page, FSIS is able to provide information to a much broader, more diverse audience.

For more information contact the Congressional and Public Affairs Office, at (202) 720-9113. To be added to the free e-mail subscription service (Listserv) go to the “Constituent Update” page on the Internet at http://www.fsis.usda.gov/oa/update/update.htm. Click on the “Subscribe to the Constituent Update Listserv” link, then fill out and submit the form.

Done at Washington, DC, on: December 4, 2002.
Dr. Garry L. McKee,
Administrator.

[FR Doc. 02-31008 Filed 12-6-02; 8:45 am]

BILLING CODE 3410-DM-P